DEPARTMENT OF DEFENSE

Department of the Army; Corps of Engineers

Intent To Prepare a Draft Environmental Impact Statement for the Shrewsbury River Basin, Monmouth County, NJ, Flood Control and Ecosystem Restoration Study: Feasibility Phase;Correction

AGENCY: Department of the Army, U.S. Army Corps of Engineers, DoD.

ACTION: Notice; date correction.

SUMMARY: The public scoping meetings scheduled for June 13, 2002 from 2 pm to 5 pm and from 7 pm to 9 pm published in the Federal Register on Friday, May 3, 2002 (67 FR 22414) have been rescheduled. The public scoping meetings will now be held on June 14, 2002 from 2 pm to 5 pm and from 7 pm to 9 pm. The meetings will be held in Monmouth County at the Sea Bright Borough Hall gymnasium.

FOR FURTHER INFORMATION CONTACT: Ms. Melissa Alvarez, Project Biologist, Planning Division, U.S. Army Corps of Engineers, New York District, 26 Federal Plaza, Room 2142, New York, New York, 10278-0090, at (212) 264-2008 or at melissa.d.alvarez@usace.army.mil.

SUPPLEMENTARY INFORMATION: The information for the point of contact for the original notice has also changed, the physical street address has been modified and the email address has been added (see above).

Luz D. Oritz,
Army Federal Register Liaison Officer.

[FR Doc. 02-12186 Filed 5-15-02; 8:45 am]

BILLING CODE 3710-06-M